DEPARTMENT OF ENERGY

Federal Energy Regulatory Commission

[Docket No. EG06-37-000; EG06-38-000; FC06-1-000; FC06-2-000]

KGen Enterprise LLC; TransCanada Energy Ltd.; Orzunil I de Electricidad Limitada; OrPower, 4 Inc.l; Ormat Momotomo Power Company; Ormat Leyte Co., Ltd.; OrTitlan Limitada; Macquarie Bank Limited; Macquarie International Infrastructure Fund Ltd.; Holleben Wind Farm KG; Bippen Wind Farm KG; Diversified Utility and Energy Trust No. 1; Diversified Utility and Energy Trust No. 2; MEIF Luxembourg Holdings SA; Macquarie Power Income Fund; Global Infrastructure Fund; Korea Power Investments Company, Ltd.; SK Energy Company, Ltd.; UWR GmbH and Co KG; Notice of Effectiveness of Exempt Wholesale Generator or Foreign Utility Company Status

May 5, 2006.

Take notice that during the month of April 2006, the status of the above-captioned entities as Exempt Wholesale Generators or Foreign Utility Companies became effective by operation of the Commission's regulations. 18 CFR 366.7(a).

Magalie R. Salas,
Secretary.

[FR Doc. E6-7193 Filed 5-10-06; 8:45 am]

BILLING CODE 6717-01-P